DEPARTMENT OF HOUSING AND URBAN DEVELOPMENT

[Docket No. FR-5030-FA-18]

Announcement of Funding Awards for the Assisted Living Conversion Program Fiscal Year 2006

AGENCY: Office of the Assistant Secretary for Housing—Federal Housing Commissioner, HUD.

ACTION: Notice of funding awards.

SUMMARY: In accordance with section 102(a)(4)(C) of the Department of Housing and Urban Development Reform Act of 1989, this announcement notifies the public of funding decisions made by the Department in a competition for funding under the Super Notice of Funding Availability (SuperNOFA) for the Assisted Living Conversion Program. This announcement contains the names of the awardees and the amounts of the awards made available by HUD.

FOR FURTHER INFORMATION CONTACT: Mr. Willie Spearmon, Director, Office of Housing Assistance and Grant Administration, 451 Seventh Street, SW., Washington, DC 20410-8000; telephone (202) 708-3000 (this is not a toll-free number). Hearing- and speech-impaired persons may access this number via TTY by calling the Federal Relay Service toll-free at (800) 877-8339. For general information on this and other HUD programs, visit the HUD Web site at http://www.hud.gov.

SUPPLEMENTARY INFORMATION: The Assisted Living Conversion Program is authorized by Section 202(b) of the Housing Act of 1959 (12 U.S.C. 1701q-2). The competition was announced in the SuperNOFA published in the Federal Register on March 8, 2006 (71 FR 11988). Applications were rated and selected for funding on the basis of selection criteria contained in that Notice.

The Catalog of Federal Domestic Assistance number for this program is 14.314.

The Assisted Living Conversion Program is designed to provide funds to private nonprofit Owners to convert their projects (that is, projects funded under Section 202, Section 8 project-based [including Rural Housing Services' Section 515], Section 221(d)(3) BMIR, and Section 236) to assisted living facilities. Grant funds are used to convert the units and related space for the assisted living facility.

A total of $7,849,336.00 was awarded to 6 projects for 64 units nationwide. In accordance with section 102(a)(4)(C) of the Department of Housing and Urban Development Reform Act of 1989 (103 Stat. 1987. 42 U.S.C. 3545), the Department is publishing the grantees and amounts of the awards in Appendix A of this document.

Dated: December 1, 2006.
Brian Montgomery,
Assistant Secretary for Housing—Federal Housing Commissioner.

Appendix A—Fiscal Year 2006 ALCP Awardees

Welles Country Village, Ltd.

46 Welles Rd

Vernon, CT 06066

$1,059,106.00

Horace Bushnell Congregate Homes, Inc.

51 Vine Street.

Hartford, CT 06112

$1,059,062.00

The Bernadine Apartments, Inc.

700 E. Brighton Avenue

Syracuse, NY 13205

$497,206.00

Mercy-Douglas Human Services Residences Corp.

4511 Walnut Street

Philadelphia, PA 19139

$2,043,664.00

Trent Center Apartments, Inc.

511 Greenwood Ave.

Trenton, NJ 08609

$2,043,608.00

Christian Care Manor II, Inc.

11802 N. 19th Avenue

Phoenix, AZ 85029

$1,146,690.00

TOTAL: $7,849,336.00

[FR Doc. E6-21559 Filed 12-18-06; 8:45 am]

BILLING CODE 4210-67-P